SMALL BUSINESS ADMINISTRATION

Reporting and Recordkeeping Requirements Under OMB Review

AGENCY: Small Business Administration.

ACTION: 30-Day notice.

SUMMARY: The Small Business Administration (SBA) is seeking approval from the Office of Management and Budget (OMB) for the information collection described below. In accordance with the Paperwork Reduction Act and OMB procedures, SBA is publishing this notice to allow all interested member of the public an additional 30 days to provide comments on the proposed collection of information.

DATES: Submit comments on or before March 1, 2021.

ADDRESSES: Comments should refer to the information collection by title and/or OMB Control Number and should be sent to: Agency Clearance Officer, Curtis Rich, Small Business Administration, 409 3rd Street SW, 5th Floor, Washington, DC 20416; and SBA Desk Officer, Office of Information and Regulatory Affairs, Office of Management and Budget, New Executive Office Building, Washington, DC 20503.

FOR FURTHER INFORMATION CONTACT: Curtis Rich, Agency Clearance Officer, (202) 205-7030 curtis.rich@sba.gov.

Copies: You may obtain a copy of the information collection and supporting documents from the Agency Clearance Officer.

SUPPLEMENTARY INFORMATION: The information collected from the public, including our program participants and stakeholders, will help ensure users have an effective, and satisfying experience with the programs and activities offered or sponsored by the Small Business Administration. The information will provide insights into the public's perceptions, experience and expectations, and help focus attention on areas where communication, training or changes in operations might improve delivery of products or services.

Solicitation of Public Comments

Comments may be submitted on (a) whether the collection of information is necessary for the agency to properly perform its functions; (b) whether the burden estimates are accurate; (c) whether there are ways to minimize the burden, including through the use of automated techniques or other forms of information technology; and (d) whether there are ways to enhance the quality, utility, and clarity of the information.

Title: Generic Clearance for the Collection of Qualitative and Quantitative Feedback on Agency Service Delivery.

OMB Control Number: 3245-0398.

Description of Respondents: Program participants and stakeholders.

Description of Respondents: 500,000.

Estimated Annual Responses: 5000,000.

Estimated Annual Hour Burden: 70,000.

Curtis Rich,
Management Analyst.

[FR Doc. 2021-01961 Filed 1-28-21; 8:45 am]

BILLING CODE 8026-03-P